TENNESSEE VALLEY AUTHORITY

Sunshine Act Meeting Notice

Agency Holding the Meeting: Tennessee Valley Authority. Federal Register Citation of Previous Announcement: 75 FR 19465 (April 14, 2010).

Previously Announced Time and Date of Meeting: Immediately following 8:30 a.m. listening session, April 16, 2010.

Previously Announced Place of Meeting: TVA Knoxville West Tower Auditorium, 400 West Summit Hill Drive, Knoxville, Tennessee.

Changes in the Meeting: The TVA Board of Directors has approved the addition of the following items to the previously announced agenda:

5. Report of the Audit, Governance, and Ethics Committee.

B. Resolution honoring the retiring General Counsel.

C. Proposal to select Chairman of the Board.

For More Information: Please call TVA Media Relations at (865) 632-6000, Knoxville, Tennessee.

Ralph E. Rodgers,
Acting General Counsel and Secretary of the Corporation.

[FR Doc. 2010-9558 Filed 4-21-10; 11:15 am]

BILLING CODE 8120-08-P